DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 29, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Imported Seed and Screening.

OMB Control Number: 0579-0124.

Summary of Collection: The United States Department of Agriculture (USDA) is responsible for preventing plant diseases or insect pests from entering the United States, preventing the spread of pests not widely distributed in the United States, and eradicating imported pests when eradication is feasible. Under the authority of the Federal Seed Act of 1939, as amended, the USDA regulates the importation and interstate movement of certain agricultural and vegetable seeds. The USDA Animal & Plant Health Inspection Service (APHIS) Plant Protection and Quarantine (PPQ) Division has established a seed analysis program with Canada that allows U.S. companies that import seed for cleaning or processing to enter into compliance agreements with APHIS. To monitor and ensure compliance with United States agricultural regulations, APHIS will collect information using forms and other information activities.

Need and Use of the Information: APHIS will collect information from forms, correspondence, inspections, and discussions to ensure imported seeds do not pose a threat to U.S. agriculture. If the information were not collected, there would be increased risk of severe economic damage to United States agriculture caused by plant diseases and insect pests.

Description of Respondents: Business or other for-profit; Federal Government.

Number of Respondents: 1,153.

Frequency of Responses: Recordkeeping: Reporting: On occasion.

Total Burden Hours: 9,632.

Ruth Brown,
Departmental Information Collection Clearance Officer.

[FR Doc. 2023-23825 Filed 10-27-23; 8:45 am]

BILLING CODE 3410-34-P